DEPARTMENT OF ENERGY

Federal Energy Regulatory Commission

[Docket No. RP02-510-000]

Questar Pipeline Company; Notice of Tarrif Filing

September 4, 2002.

Take notice that on August 29, 2002, Questar Pipeline Company (Questar), tendered for filing FERC Gas Tariff, the following tariff sheets, to be effective October 1, 2002:

First Revised Volume No.1

Twenty-Fifth Revised Sheet No. 5

Fourteenth Revised Sheet No. 6

Original Volume No. 3

Thirty-Third Revised Sheet No. 8

Questar states that this filing incorporates into its storage and transportation rates the annual charge adjustment (ACA) unit rate of $0.00212 per Dth..

Questar states that copies of this filing were served upon Questar's customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's web site at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-22879 Filed 9-9-02; 8:45 am]

BILLING CODE 6717-01-P